DEPARTMENT OF COMMERCE

National Oceanic and Atmospheric Administration

Correction: Proposed Information Collection; Comment Request; Fisheries Certificate of Origin

AGENCY: National Oceanic and Atmospheric Administration (NOAA).

ACTION: Correction.

SUMMARY: On January 15, 2010, a notice was published in the Federal Register (75 FR 2482) on the proposed information collection, Fisheries Certificate of Origin.

In the third paragraph under SUPPLEMENTARY INFORMATION, III. Data, the OMB Control No. is corrected to read, “0648-0335.”

All other information in the notice is correct and remains unchanged.

Dated: January 21, 2010.
Gwellnar Banks,
Management Analyst, Office of the Chief Information Officer.

[FR Doc. 2010-1448 Filed 1-25-10; 8:45 am]

BILLING CODE 3510-13-P